DEPARTMENT OF THE TREASURY

Alcohol and Tobacco Tax and Trade Bureau

27 CFR Part 9

[Docket No. TTB-2018-0008; Notice No. 177A; Re: Notice No. 177]

RIN 1513-AC40

Proposed Establishment of the West Sonoma Coast Viticultural Area; Comment Period Reopening

AGENCY: Alcohol and Tobacco Tax and Trade Bureau, Treasury.

ACTION: Notice of proposed rulemaking; Reopening of comment period.

SUMMARY: The Alcohol and Tobacco Tax and Trade Bureau (TTB) is reopening the comment period for Notice No. 177, which concerned the proposed establishment of the approximately 141,846-acre “West Sonoma Coast” viticultural area in Sonoma County, California, for an additional 60 days. This comment period reopening is in response to requests from two industry members received in response to Notice No. 177.

DATES: For Notice No. 177, a proposed rule published on December 6, 2018 (83 FR 62750), comments are now due on or before April 15, 2019.

ADDRESSES: Please send your comments on this proposal to one of the following addresses:

• Internet: http://www.regulations.gov (via the online comment form for Notice No. 177 as posted within Docket No. TTB-2018-0008 at “Regulations.gov,” the Federal e-rulemaking portal);

• U.S. mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

See the Public Participation section of Notice No. 177 for specific instructions and requirements for submitting comments. You may view copies of the West Sonoma Coast viticultural area petition, Notice No. 177, this document, selected supporting materials, and all public comments associated with this proposal within Docket No. TTB-2018-0008 at www.regulations.gov. You also may view such materials by appointment at the TTB Public Reading Room, 1310 G Street NW, Washington, DC 20005. Please call 202-453-2135 to make an appointment.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION: The Alcohol and Tobacco Tax and Trade Bureau (TTB) published Notice No. 177 in the Federal Register on December 6, 2018 (83 FR 62750) proposing the establishment of the West Sonoma Coast American viticultural area (AVA) in Sonoma County, California. The proposed AVA lies entirely within the established Sonoma Coast AVA (27 CFR 9.116) and the North Coast AVA (27 CFR 9.30). In Notice No. 177, TTB described the characteristics of the proposed West Sonoma Coast AVA and solicited public comment on the proposal. In Notice No. 177, the comment period closing date was erroneously listed as January 7, 2019. A correction to the comment period closing date was published in the Federal Register on December 17, 2018, (83 FR 64495) and showed the correct comment period closing date of February 4, 2019.

TTB has received two requests to extend the comment period for Notice No. 177. The first comment, from Lester Schwartz of the Fort Ross Vineyard, requested a 60-day extension of the comment period to allow for “sufficient time to present factually and legally accurate information * * *.” The second comment, from Daniel and Marion Schoenfeld of Wild Hog Vineyard, requested a 30-day extension so that “interested parties are given sufficient time and opportunity to investigate the facts [and] analyze the proposed rule * * *.” These comments are posted as comments 27 and 28 within Docket No. TTB-2018-0008 on the Regulations.gov website at http://www.regulations.gov.

In response to these requests, TTB is reopening the comment period for Notice No. 177 for an additional 60 days. Therefore, TTB will be accepting comments on Notice No. 177 through April 15, 2019.

How To Comment

See the ADDRESSES section above for instructions on how and where to comment on Notice No. 177 and for instructions on how to view or obtain copies of documents and comments associated with Notice No. 177.

Drafting Information

Karen A. Thornton of the Regulations and Rulings Division drafted this document.

Signed: February 6, 2019.
John J. Manfreda,
Administrator.

[FR Doc. 2019-01996 Filed 2-11-19; 8:45 am]

BILLING CODE 4810-31-P